DEPARTMENT OF COMMERCE

Foreign-Trade Zones Board

[Order No. 1303]

Approval for Expanded Manufacturing Authority (Addition of Medical Imaging Products, and Expansion of Production of Color Negative Photographic Film and Paper) Within Foreign-Trade Subzone 38C; Fuji Photo Film, Inc.; Greenwood, South Carolina

Pursuant to its authority under the Foreign-Trade Zones Act of June 18, 1934, as amended (19 U.S.C. 81a-81u), the Foreign-Trade Zones Board (the Board) adopts the following Order:

Whereas, the South Carolina State Ports Authority, grantee of Foreign-Trade Zone 38, has applied on behalf of Fuji Photo Film, Inc. (Fuji), to expand the scope of manufacturing authority under zone procedures within Subzone 38C, at the Fuji plant in Greenwood, South Carolina, to include additional finished products (medical imaging products, components, and related products), and to increase the overall level of production authorized under FTZ procedures of color negative photographic paper and film (FTZ Doc. 63-2002; filed 12-17-2002);

Whereas, notice inviting public comment was given in the Federal Register (67 FR 79048-79049, 12-27-2002); and,

Whereas, the Board adopts the findings and recommendations of the examiner's report, and finds that the requirements of the FTZ Act and Board's regulations are satisfied, and that approval of the application is in the public interest;

Now, therefore, the Board hereby approves the request subject to the FTZ Act and the Board's regulations, including Section 400.28.

Signed at Washington, DC, this 24th day of September, 2003.
James J. Jochum,
Assistant Secretary of Commerce for Import Administration, Alternate Chairman, Foreign-Trade Zones Board.

[FR Doc. 03-25630 Filed 10-8-03; 8:45 am]

BILLING CODE 3510-DS-U